DEPARTMENT OF AGRICULTURE

Commodity Credit Corporation

Agricultural Management Assistance Program

AGENCY: Commodity Credit Corporation, USDA.

ACTION: Notice of availability of program funds for the Agricultural Management Assistance (AMA) Program.

SUMMARY: The Food, Conservation, and Energy Act of 2008 (2008 Act) expanded the geographic scope of the AMA Program to include the State of Hawaii. The Commodity Credit Corporation (CCC) administers AMA under the general supervision of the Chief of the Natural Resources Conservation Service (NRCS), who is one of the vice presidents of CCC.

CCC announces the availability of an additional $2.5 million of technical and financial assistance funds in fiscal year (FY) 2008 to participating States. AMA is available to States which have historically low participation in the Federal crop insurance program. These States are: Connecticut, Delaware, Maine, Maryland, Massachusetts, Nevada, New Hampshire, New Jersey, New York, Pennsylvania, Rhode Island, Utah, Vermont, West Virginia, Wyoming, and Hawaii. Under AMA, a participant may use financial assistance to adopt conservation practices that will reduce or mitigate risks to their agricultural enterprises.

AMA is authorized by Section 524(b) of the Federal Crop Insurance Act (7 U.S.C. 1524(b)), and administered under regulations found at 7 CFR part 1465. NRCS will, at a later date, formally amend the final rule located in 7 CFR part 1465 to add Hawaii as an area which is eligible for AMA assistance.

DATES: July 24, 2008 to September 30, 2008.

FOR FURTHER INFORMATION CONTACT: Harry Slawter, Director, Financial Assistance Programs Division, NRCS, Post Office Box 2890, Washington, DC 20013; telephone: (202) 720-1845; facsimile: (202) 720-4265; e-mail: harry.slawter@wdc.usda.gov.

SUPPLEMENTARY INFORMATION: CCC hereby announces the availability of up to $2.5 million in FY 2008 to provide technical and financial assistance to producers under AMA. AMA assistance helps producers develop and implement conservation practices that reduce or mitigate agricultural production risks. Conservation practices, available under AMA, reduce soil erosion, improve watershed management or irrigation structures, utilize integrated pest management principles, and assist producers in transitioning to organic-based farming.

AMA was established in 2000. Since that time, AMA has been made available to 15 States, listed in statutory authority, in which participation in the Federal crop insurance program has been historically low. The 15 States include: Connecticut, Delaware, Maine, Maryland, Massachusetts, Nevada, New Hampshire, New Jersey, New York, Pennsylvania, Rhode Island, Utah, Vermont, West Vermont, West Virginia, and Wyoming. The 2008 Act expanded AMA's geographic scope to include the State of Hawaii.

The 2008 Act provided for the continuation of conservation programs in 2008. AMA will continue to use the policies and operating procedures outlined in AMA's regulation (7 CFR part 1465) for program implementation in 2008. Individuals interested in applying for AMA assistance may contact their local Department of Agriculture (USDA) service center in participating AMA States. For a listing of local USDA service centers, consult: http://offices.sc.egov.usda.gov/locator/app?agency=nrcs.

Signed in Washington, DC, on July 17, 2008.
Arlen L. Lancaster,
Vice President, Commodity Credit Corporation and Chief, Natural Resources Conservation Service.

[FR Doc. E8-16920 Filed 7-23-08; 8:45 am]

BILLING CODE 3410-16-P